NATIONAL AERONAUTICS AND SPACE ADMINISTRATION

[Notice 00-058]

Notice of Agency Report Forms Under OMB Review

AGENCY: National Aeronautics and Space Administration (NASA).

SUMMARY: The National Aeronautics and Space Administration, as part of its continuing effort to reduce paperwork and respondent burden, invites the general public and other Federal agencies to take this opportunity to comment on proposed and/or continuing information collections, as required by the Paperwork Reduction Act of 1995 (Public Law 104-13: 44 U.S.C. 3506(c)(2)(A)). The information is used by NASA attorneys and technology transfer specialists to determine if a licensee is achieving and maintaining practical application of the licensed inventions as required by its license agreement.

DATES: Written comments and recommendations on the proposal for the collection of information should be received on or before July 31, 2000.

ADDRESSES: All comments should be addressed to Mr. Harry Lupuloff, Office of the General Counsel, Code GP, National Aeronautics and Space Administration, Washington, DC 20546-0001. All comments will become a matter of public record and will be summarized in NASA's request for OMB approval.

FOR FURTHER INFORMATION CONTACT: Ms. Carmela Simonson, Office of the Chief Information Officer, (202) 358-1223.

Reports: None

Title: Patent License Report.

OMB Number: 2700-0010.

Type of review: Extension.

Need and Uses: Information is used to determine if a licensee is achieving and maintaining practical application of the licensed inventions as required by its license agreement.

Affected Public: Individuals or households, business or other for-profit

Number of Respondents: 60.

Responses Per Respondent: 1.

Annual Responses: 60.

Hours Per Request: 30 min.

Annual Burden Hours: 30.

Frequency of Report: Annually.

David B. Nelson,
Deputy Chief Information Officer, Office of the Administrator.

[FR Doc. 00-13354 Filed 5-26-00; 8:45 am]

BILLING CODE 7510-01-P